DEPARTMENT OF TRANSPORTATION

Federal Motor Carrier Safety Administration

[Docket No. FMCSA-2019-0174]

Commercial Driver's License Standards: Application for Exemption Renewal; Wilson Logistics

AGENCY: Federal Motor Carrier Safety Administration (FMCSA), Department of Transportation (DOT).

ACTION: Notice of final disposition; grant of application for exemption renewal.

SUMMARY: FMCSA announces its final decision to renew the exemption granted to Wilson Logistics from the requirement that a commercial driver's license (CDL) holder with the proper class and endorsements be seated in the front seat of the commercial motor vehicle (CMV) at all times while the commercial learner's permit (CLP) holder is engaged in behind-the-wheel training on public roads or highways, but only after the CLP holder has passed the CDL skills test. FMCSA has analyzed the exemption application and the public comments and has determined that the exemption, subject to the terms and conditions set forth below, is likely to achieve a level of safety that is equivalent to, or greater than, the level that would be achieved in the absence of the exemption.

DATES: The renewed exemption is effective February 24, 2026, and expires February 24, 2031.

FOR FURTHER INFORMATION CONTACT: Mr. Richard Clemente, FMCSA Driver and Carrier Operations Division; Office of Carrier, Driver and Vehicle Safety Standards; richard.clemente@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2019-0174/document and choose the document to review. To view comments, click this notice, then click “Browse Comments.” If you do not have access to the internet, you may view the docket online by visiting Dockets Operations in room W58-213 of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved without the exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Section 383.25(a)(1) requires a CDL holder with the proper CDL class and endorsements necessary to operate the CMV to accompany a CLP holder and be physically present in the front seat of the CMV next to the CLP holder at all times or, in a commercial passenger vehicle, directly behind or in the front row behind the driver and must have the CLP holder under observation and direct supervision.

Applicant's Request

Wilson Logistics' application for an exemption renewal was described in detail in a Federal Register notice published on December 10, 2025 (90 FR 57274) and will not be repeated as the facts have not changed.

IV. Public Comments

The Agency received 74 comments, most of which were submitted by individuals. Five individuals commented in support, 65 commented in opposition, and four commenters were neither for nor against granting the exemption.

Some of the commenters in support of granting the exemption have experience similar to the training described by the applicant. Alan Stancombe, J.D., said that, while he had not worked for Wilson Logistics, “I personally have fellow CDL A driver trainers. I am very aware of their in-house training program that is the very best that any company has to offer.” Otto Ammer said that, based on the description of Wilson Logistics' training that he read about in a December 31, 2025 article in CDL Life, Wilson Logistics is “doing it the right way” and that it “is the same type of program” that his first employer used when he began driving in 1980. Other supportive commenters said they saw value in Wilson Logistics' training program. Alec Green said, “As long as the holder of the CDL or (trainer) is in the vehicle not sleeping, it should be permitted.”

Some of the commenters who opposed granting the exemption believe the applicant is using the exemption to cut costs and not for training. An anonymous commenter said, “This is not driver training, it's cheap labor while one sleeps.” Keith Case said that the CLP holder “is just being used as an extra logbook so that Wilson can book better paying freight while still paying the CLP holder a minimum amount.” Other opposing commenters noted the safety risks posed by inexperienced drivers.

Bruce Stockton, a former employee of Wilson Logistics who submitted Wilson Logistics' exemption renewal application, submitted an opposing comment to the docket. His comment states that he has “personal knowledge that the application for renewal may contain incorrect or false data.” He indicates that Wilson Logistics changed the driver qualifications for new CLP applicants and shortened the training since the exemption renewal request was submitted. Mr. Stockton recommends the Agency investigate Wilson Logistics before considering renewal.

Commenters who were neither for nor against the exemption offered suggestions on the applicant's training practices. Dave Clancy said, “I truly believe that a licensed `trainer' should ride with a new applicant for 50% of his training period to help instill the importance of safety and to [e]nsure the applicant follows all laws within the trucking industry.”

V. FMCSA Decision

The Agency acknowledges the concerns of commenters regarding the safety risks posed by inexperienced drivers and emphasizes that the exemption renewal applies only to Wilson Logistics drivers who have completed the required entry-level driver training requirements, set forth in 49 CFR part 380, subpart F, and passed the CDL skills test. CLP holders who have passed the CDL skills test have demonstrated their abilities to safely operate the CMV. If these CLP holders had passed the skills test in their home State of domicile, they could immediately obtain their permanent or temporary CDL and begin driving CMVs without any on-board supervision. Drivers who have passed the CDL skills test outside their State of domicile must obtain the physical CDL credential from their State of domicile. The exemption therefore permits these individuals who are employed by Wilson Logistics to work productively as team CMV drivers during the period between passing the CDL skills test and receiving their CDL, without requiring the accompanying CDL holders to be on duty and in the front seat.

To address the commenters' concerns that the exemption allows Wilson Logistics to use trainees for cost-cutting purposes, rather than focusing on training, FMCSA clarifies in the terms and conditions below that the CLP holder may operate for no more than 30 days after passing the CDL skills test without a CDL holder present in the front passenger seat. This allows the CLP holder time to travel to his or her State of domicile to retrieve the CDL document. FMCSA will follow up on Mr. Stockton's allegations regarding Wilson Logistics' entry level driver training and third-party testing programs.

FMCSA is unaware of any evidence of a degradation of safety attributable to the current exemption for Wilson Logistics drivers. There is no indication of an adverse impact on safety while operating under the terms and conditions specified in the initial exemption or exemption renewal. Furthermore, the Agency has granted the same exemption to other applicants.¹ FMCSA concludes that the exemption, subject to the terms and conditions set forth in section VI, would likely achieve a level of safety that is equivalent to, or greater than, the level that would be achieved absent such exemption, in accordance with 49 U.S.C. 31315(b)(1). FMCSA has authority to revoke the exemption if (1) Wilson Logistics or the drivers operating under the exemption fail to comply with the terms and conditions of the exemption; (2) the exemption results in a lower level of safety than was achieved before it was granted; or (3) FMCSA determines that continuation of the exemption would not be consistent with the goals and objectives of Title 49, chapter 313 or section 31136.

¹ To CRST Expedited [83 FR 53149, September 23, 2018 (original) and 89 FR 42055, September 24, 2023 (renewal)]; to New PRIME [82 FR 29143, June 27, 2017 (original) and 87 FR 38449, June 28, 2022 (renewal)]; to C.R. England [82 FR 26975, June 12, 2017 (original) and 87 FR 36360, June 16, 2022 (renewal)]; and to Werner Enterprises, Inc. [87 FR 18855, March 31, 2022].

VI. Exemption Decision

A. Grant of Exemption

FMCSA renews the exemption for a period of five years subject to the terms and conditions of this decision. The exemption from the requirement in 49 CFR 383.25(a)(1) that a valid CDL holder be in the front seat of the vehicle next to the CLP holder, is effective February 24, 2026, and expires February 24, 2031, 11:59 p.m. local time.

B. Applicability of Exemption

The exemption from 49 CFR 383.25(a)(1) permits Wilson Logistics drivers who hold a CLP and have successfully passed a CDL skills test, to drive a CMV without a CDL holder being present in the front seat of the vehicle for no more than 30 days after the CLP holder has passed the CDL skills test.

C. Terms and Conditions

When operating under this exemption, Wilson Logistics and its drivers are subject to the following terms and conditions:

(1) Wilson Logistics and its drivers must comply with all other applicable FMCSRs (49 CFR parts 350-399);

(2) A CLP holder may operate under the exemption for no more than 30 days after passing the CDL skills test;

(3) The drivers must be in possession of a valid State driver's license, CLP with the required endorsements, and documentation that they have passed the CDL skills test;

(4) The drivers must not be subject to any out-of-service order or suspension of driving privileges;

(5) The accompanying CDL holder must have the proper CDL class and endorsements necessary to operate the CMV operated by the CLP holder; and

(6) The drivers must provide this exemption document upon demand to enforcement officials.

D. Preemption

In accordance with 49 U.S.C. 31315(d), as implemented by 49 CFR 381.600, during the period this exemption is in effect, no State shall enforce any law or regulation that conflicts with or is inconsistent with this exemption with respect to a firm or person operating under the exemption. States may, but are not required to, adopt the same exemption with respect to operations in intrastate commerce.

E. Notification to FMCSA

Wilson Logistics must notify FMCSA within 5 business days of any accident (as defined in 49 CFR 390.5T) involving any of its CMVs operating under the terms of this exemption. The notification must include the following information:

(a) Name of the exemption: “Wilson Logistics”;

(b) Date of the accident;

(c) City or town, and State, in which the accident occurred, or closest to the accident scene;

(d) Driver's name and license number, and the name and number of the co-driver;

(e) Vehicle number and State license number;

(f) Number of individuals suffering physical injury;

(g) Number of fatalities;

(h) The police-reported cause of the accident;

(i) Whether the driver was cited for violation of any traffic laws or motor carrier safety regulations; and

(j) The driver's total driving time and total on-duty time prior to the accident.

Reports filed under this provision shall be emailed to MCPSD@DOT.GOV with “Wilson Logistics and FMCSA-2019-0174” in the subject line.

VII. Termination

FMCSA does not believe the drivers covered by this exemption will experience any deterioration of their safety record. However, the exemption will be revoked if: (1) Wilson Logistics or the drivers operating under the exemption fail to comply with the terms and conditions of the exemption; (2) the exemption has resulted in a lower level of safety than was maintained before it was granted; or (3) continuation of the exemption would not be consistent with the goals and objectives of Title 49, chapter 313 or section 31136.

Derek Barrs,
Administrator.

[FR Doc. 2026-03926 Filed 2-26-26; 8:45 am]

BILLING CODE 4910-EX-P